DEPARTMENT OF COMMERCE

National Oceanic and Atmospheric Administration

RIN 0648-XD154

Gulf of Mexico Fishery Management Council (Council); Public Meeting

AGENCY: National Marine Fisheries Service (NMFS), National Oceanic and Atmospheric Administration (NOAA), Commerce.

ACTION: Notice of a public meeting of the Gulf of Mexico Fishery Management Council.

SUMMARY: The Gulf of Mexico Fishery Management Council (Council) will hold a meeting of its Law Enforcement Advisory Panel (LEAP) in conjunction with the Gulf States Marine Fisheries Commission's Law Enforcement Committee (LEC).

DATES: The meeting will be held from 1:30 p.m. until 5 p.m. on Tuesday, March 18, 2014.

ADDRESSES: Meeting address: The meeting will be held at the Royal Sonesta Hotel, 300 Bourbon Street, New Orleans, LA; telephone: (504) 586-0300.

Council address: Gulf of Mexico Fishery Management Council, 2203 North Lois Avenue, Suite 1100, Tampa, FL 33607.

FOR FURTHER INFORMATION CONTACT: Mr. Steven Atran, Senior Fishery Biologist, Gulf of Mexico Fishery Management Council; telephone: (813) 348-1630; fax: (813) 348-1711; email: steven.atran@gulfcouncil.org and Mr. Steve Vanderkooy, Inter-jurisdictional Fisheries Coordinator, Gulf States Marine Fisheries Commission; telephone: (228) 875-5912; email: svanderkooy@gsmfc.org.

SUPPLEMENTARY INFORMATION: The items of discussion on the agenda are as follows: Joint Gulf Council's Law Enforcement Advisory Panel and Gulf States Marine Fisheries Commission's Law Enforcement Committee Meeting Agenda, Tuesday, March 18, 2014, 1:30 p.m. until 5 p.m.

1. Adoption of Agenda

2. Approval of Minutes of the October 15, 2013 LEAP Meeting (LEC had no quorum)

3. Gulf Council Items

a. Review Revised Definition of Charter Fishing

b. Proposed Changes to Red Snapper IFQ Program

c. Options Paper for Reef Fish Amendment 40—Sector Separation

d. Red Snapper Slot Limits and Hook Size Possible Regulations

4. Implementation of NOAA turtle excluder device Boarding Form

5. Inter-jurisdictional Fisheries Program Activity

a. Blue Crab

b. Gulf Menhaden

c. Gulf and Southern Flounder

6. State Report Highlights

a. Florida

b. Alabama

c. Mississippi

d. Louisiana

e. Texas

f. U.S. Coast Guard

g. NOAA Office of Law Enforcement

h. U.S. Fish and Wildlife Service

7. Other Business

Adjourn

The Law Enforcement Advisory Panel consists of principal law enforcement officers in each of the Gulf States, as well as the NOAA Law Enforcement, U.S. Fish and Wildlife Service, the U.S. Coast Guard, and the NOAA General Counsel for Law Enforcement. A copy of the agenda and related materials can be obtained by calling the Council office at (813) 348-1630.

Although non-emergency issues not contained in this agenda may come before this group for discussion, those issues may not be the subject of formal action during this meeting. Action will be restricted to those issues specifically identified in this notice and any issues arising after publication of this notice that require emergency action under section 305© of the Magnuson-Stevens Fishery Conservation and Management Act, provided the public has been notified of the Council's intent to take final action to address the emergency. These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: February 25, 2014.
Tracey L. Thompson,
Acting Deputy Director, Office of Sustainable Fisheries, National Marine Fisheries Service.

[FR Doc. 2014-04451 Filed 2-27-14; 8:45 am]

BILLING CODE 3510-22-P